DEPARTMENT OF HOUSING AND URBAN DEVELOPMENT

[Docket No. FR-5546-D-01]

Delegation of Authority to the Office of Disaster Management and National Security

AGENCY: Office of the Secretary, HUD.

ACTION: Delegation of Authority.

SUMMARY: Through this notice, the Secretary delegates authority to the Chief Disaster and National Security Officer, Office of Disaster Management and National Security.

DATES: Effective Date: September 30, 2011.

FOR FURTHER INFORMATION CONTACT: Laura L. McClure, Acting Chief Disaster and National Security Officer, Office of Disaster Management and National Security, Department of Housing and Urban Development, 451 7th Street, SW., Room 10170, Washington, DC 20410-6000, telephone number 202-402-6300 (this is not a toll free number). Persons with hearing or speech impairments may access this number through TTY by calling the toll-free Federal Relay Service at telephone number 1-800-877-8339.

SUPPLEMENTARY INFORMATION:

The Secretary of HUD hereby delegates to the Chief Disaster and National Security Officer authority and responsibility to advise HUD departmental leadership on all aspects of disaster and national security preparedness, response, and recovery; to identify and mitigate risks; to improve departmentwide capacity, coordination, and support for disaster management and national security; and to ensure that HUD's security and disaster management programs support national objectives and the security of the United States while supporting HUD's mission. In carrying out this responsibility, the Chief Disaster and National Security Officer shall, among other duties:

1. Assess, coordinate and improve execution of the Department's disaster management and national security programs.

2. Represent the Department's interests in interagency committees and groups that address disaster management, national security, law enforcement, and the protective service detail.

3. Develop criteria to assess and help improve disaster and national security preparedness, response, and recovery and develop policy, program options, and recommendations together with key program offices.

4. Develop and coordinate crosscutting disaster and national security policies, programs, and plans that improve departmental preparedness, response, and recovery including implementation of the National Response Framework, National Continuity Policy, and Presidential Decision and National Security Directives.

5. Integrate current and future disaster and national security programs into departmentwide response effort.

6. Manage and support the Department's Protective Services functions and related investigation and law enforcement liaison functions.

7. Manage access to and protect HUD classified programs and information and maintain and operate classified systems.

Section A. Authority Delegated

The Secretary hereby delegates all authority pursuant to the following authorities to the Chief Disaster and National Security Officer:

1. Federal Law Enforcement and Personal Security Protection. Authority for providing personal security protection for the Secretary, Deputy Secretary, and their immediate families, as warranted, including authorities set forth in 28 U.S.C. 566(c), 566(d), 566(e), 561(a), 561(f), 561(g), 564, 509, 510; 28 CFR 0.111, 0.112, 0.113; and 18 U.S.C. 115(a)(1), 351, 3053. Authority for law enforcement and noncriminal investigations and enforcement of HUD Handbook 0752.2, Adverse Action, including authority under 42 U.S.C. 3535(d).

2. National Security and Operations. Authority to execute and support departmental preparedness activities pursuant to White House and Department of Homeland Security guidance and requirements, including but not limited to: Homeland Security Presidential Directive—20: National Continuity Policy (2007), Federal Continuity Directive 1: Federal Executive Branch National Continuity Program and Requirements (2008), and Federal Continuity Directive 2: Federal Executive Branch Mission Essential Function and Primary Mission Essential Function Identification and Submission Process (2008). Guidance and requirements for operations, including, but not limited to Homeland Security Presidential Directive—5: Management of Domestic Incidents (2003) and the National Communications System Directive 3-10: Minimum Requirements for Continuity Communications Capabilities (2007), which was issued by DHS on behalf of the Office of Science, Technology, and Policy in the Executive Office of the President. This area also includes authority to implement guidance and requirements for test, training, and exercises under the Presidential Policy Directive 8: National Preparedness (2011), the National Preparedness Goal, and the National Exercise Plan, including required participation in exercises.

3. Response and Recovery. Authority to execute and support departmental response and recovery activities pursuant to White House and Department of Homeland Security guidance and requirements, including but not limited to: Homeland Security Presidential Directive-5: Management of Domestic Incidents (2003), the National Response Framework (2008), the National Incident Management System (2004), and the National Disaster Recovery Framework (currently under development).

Section B. Authority To Redelegate

The Chief Disaster and National Security Officer may redelegate to employees of HUD any of the authority delegated under Section A above.

Section C. Authority Superseded

The Secretary may revoke the authority authorized herein, in whole or part, at any time.

Authority: Section 7(d) of the Department of Housing and Urban Development Act (42 U.S.C. 3535(d)).

Dated: September 30, 2011.
Shaun Donovan,
Secretary.

[FR Doc. 2011-26046 Filed 10-6-11; 8:45 am]

BILLING CODE 4210-67-P